DEPARTMENT OF JUSTICE

Notice of Lodging of Proposed Consent Decree Under the Comprehensive Environmental Response, Compensation and Liability Act (CERCLA)

On September 17, 2020, the United States lodged a proposed Consent Decree with the United States District Court for the Western District of Kentucky in the lawsuit entitled United States v. Goodrich Corporation, Westlake Vinyls, Inc., and PolyOne Corporation, Civil Action No. 5:20-cv-00154-TBR.

The proposed Consent Decree resolves certain claims brought on behalf of the United States Environmental Protection Agency (“EPA”) under Sections 106 and 107 of CERCLA, 42 U.S.C. 9606, 9607, and Section 7003 of the Resource Conservation and Recovery Act, 42 U.S.C. 6973, against Goodrich Corporation, Westlake Vinyls, Inc., and PolyOne Corporation (collectively “Defendants”) for costs incurred and to be incurred at the B.F. Goodrich Site (“Site”) located in Calvert City, Marshall County, Kentucky. Under the proposed Consent Decree, the Defendants will implement the Remedial Action for the Site selected in EPA's Record of Decision, issued in September of 2018. Key elements of the remedy include the installation of a three-mile long sub-surface barrier wall around the perimeter of the onshore contamination; collection and treatment of groundwater within the containment area; recovery of non-aqueous phase liquid (“NAPL”) from accessible onshore areas; dredging of contaminated sediments from the barge slip; closure of two ponds; recovery of NAPL from beneath the Tennessee River; and treatment of the groundwater plume beneath the river. The estimated cost of the cleanup work to be performed by the Defendants pursuant to the Consent Decree is $97,000,000. Under the Consent Decree the Defendants have agreed to pay all of EPA's costs incurred in overseeing the construction of the Remedial Action.

The Settlement Agreement includes certain covenants not to sue under Sections 106 and 107 of CERCLA, 42 U.S.C. 9606, 9607, and Section 7003 of RCRA, 42 U.S.C. 6973, with respect to the Site. As provided by RCRA, a public meeting will be held on the proposed settlement if requested in writing by fifteen (15) days after the publication date of this notice. Requests for a public meeting may be made by contacting the EPA Remedial Project Manager, Brad Jackson by email at Jackson.Brad@epa.gov. If a public meeting is requested, information about the date and time of the meeting will be published in the local newspaper, and will be sent to persons on the EPA B.F. Goodrich Superfund Site mailing list.

The publication of this notice opens a period for public comment on the Consent Decree. Comments should be addressed to the Assistant Attorney General, Environment and Natural Resources Division, and should refer to U.S. v. Goodrich, et al., D.J. Ref. No. 90-11-3-12205. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $14 for a copy of the Consent Decree without Exhibits or $133.75 for a copy of the Consent Decree with Exhibits (25 cents per page reproduction cost) payable to the United States Treasury.

Lori Jonas,
Assistant Section Chief, Environmental Enforcement Section, Environment and Natural Resources Division.

[FR Doc. 2020-21049 Filed 9-23-20; 8:45 am]

BILLING CODE 4410-15-P